NATIONAL ARCHIVES AND RECORDS ADMINISTRATION

36 CFR Part 1280

[FDMS Docket NARA-09-0003]

RIN 3095-AB60

Photography in Public Exhibit Space

AGENCY: National Archives and Records Administration (NARA).

ACTION: Proposed rule.

SUMMARY: The proposed rule limits the use of film, photographic, and videotape equipment inside the National Archives Building in Washington, DC. Filming, photographing, and videotaping will be prohibited in exhibits of the National Archives Experience (NAE) in Washington, DC, including the Declaration of Independence, the Constitution, and the Bill of Rights (known as the Charters of Freedom) in the Rotunda of the National Archives Building. In 2003 NARA installed new exhibit cases for displaying the Charters and other NAE documents to provide better clarity for viewing the exhibits. NARA seeks to ensure the necessary protection for the documents from the cumulative effects of photographic flash.

DATES: Comments are due by September 29, 2009.

ADDRESSES: NARA invites interested persons to submit comments on this proposed rule. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Marilyn Redman at 301-837-1850 or fax number 301-837-0319.

SUPPLEMENTARY INFORMATION: In order to secure and protect all documents on display in the National Archives Experience (NAE) from unnecessary exposure to the harmful effects of flash photography and to improve the overall visitor experience, NARA is proposing to ban all photography from exhibit areas in the NAE. The 2003 renovations to the Rotunda exhibit area included the installation of new exhibit cases, which were designed with special glass with high clarity and no colored filters, to improve the ability to see the documents on display. The new display cases provide little protection from the damaging effects of photographic flash. While NARA staff goes to great lengths to adjust the Rotunda light levels to protect documents on display from excess light, public photography with attendant flash works against the efforts to protect the documents.

The NAE exhibitions primarily contain paper and parchment documents that are susceptible to the harmful effects of light and in particular to the cumulative effects of photographic flash. While all original documents on display are at risk from excessive light exposure, the Declaration of Independence, Constitution and Bill of Rights (known collectively as the Charters of Freedom) are especially susceptible to the damaging effects from photographic flash because these documents are on permanent display.

Currently, signage, pamphlets, and security officers inform visitors that flash photography is prohibited in the exhibit areas. Most photographic flash occurs from accidental acts rather than intentional action. However, over the past six years it has proved to be an impossible task to prevent visitors from intentionally or accidentally using additional light. Security officers do escort those visitors out of the building who continue to use flash photography after being warned. But, by the time a security officer makes that decision, at least two or three flashes have already occurred, needlessly exposing documents to excessive light. Numerous visitors' remarks in the informal visitors' comment log as well as letters to NARA include apologies for inadvertent flash; complaints that flash disrupts their visit; that flash rules are not effectively enforced; and, that camera use should be banned.

This proposed rule is not a significant regulatory action for the purposes of Executive Order 12866 and has not been reviewed by the Office of Management and Budget. As required by the Regulatory Flexibility Act, I certify that this rule will not have a significant impact on a substantial number of small entities because it affects individuals. This regulation does not have any federalism implications.

List of Subjects in 36 CFR Part 1280

Archives and records, Federal buildings and facilities.

For the reasons set forth in the preamble, NARA proposes to amend part 1280 of title 36, Code of Federal Regulations, as follows:

PART 1280—USE OF NARA FACILITIES

1. The authority citation for Part 1280 continues to read as follows:

Authority: 44 U.S.C. 2102 notes, 2104(a), 2112, 2903

2. Amend § 1280.46 by redesignating (b)(3) as paragraph (c) and revising it to read as follows:

§ 1280.46 What are the rules for filming, photographing, or videotaping on NARA property for personal use?

* * * * *

(c) You may not film, photograph, or videotape in any of the exhibit areas of the National Archives Building in Washington, DC, including the Rotunda where the Declaration of Independence, the Constitution, and the Bill of Rights are displayed.

Dated: July 28, 2009.
Adrienne C. Thomas,
Acting Archivist of the United States.

[FR Doc. E9-18461 Filed 7-30-09; 8:45 am]

BILLING CODE 7515-01-P